DEPARTMENT OF TRANSPORTATION

Federal Transit Administration

Notice of Intent To Prepare an Environmental Impact Statement for the Virginia Beach Transit Extension Study, Virginia

AGENCY: Federal Transit Administration (FTA), DOT.

ACTION: Notice of intent to prepare an environmental impact statement.

SUMMARY: The Federal Transit Administration (FTA) and Hampton Roads Transit (HRT) are planning to prepare an Environmental Impact Statement (EIS) for the Virginia Beach Transit Extension Study (VBTES). The VBTES will examine extending transit service from the eastern terminus of Norfolk's existing Light Rail Transit (LRT) system, “The Tide,” at Newtown Road to the Virginia Beach Oceanfront either along the former Norfolk Southern Railroad right-of-way (NSRR ROW) that runs from Newtown Road to Birdneck Road or along the NSRR ROW to Laskin Road then onto Birdneck Road. From Birdneck Road, both alignments would extend onto 19th Street terminating at the Virginia Beach Oceanfront.

In 2000, FTA and HRT prepared the Norfolk-Virginia Beach East/West Light Rail Transit System Final EIS. This document looked at an 18-mile transit system connecting downtown Norfolk to the Pavilion area of Virginia Beach. In 2009, FTA and HRT began a Supplemental EIS for the VBTES that intended to evaluate changes in the project corridor since the 2000 EIS. As the Supplemental EIS progressed, FTA and HRT began studying an additional alternative alignment along Laskin Road. This alternative alignment and the additional amount of time that elapsed since work began on the Supplemental EIS led FTA to determine that a Supplemental EIS was no longer appropriate for the VBTES and instead a new EIS should be prepared. Pursuant to 23 CFR 771.123(a), FTA and HRT now issue this Notice of Intent (NOI) for an EIS for the VBTES. Although the VBTES has been under consideration in some form since the 1980's, and was included in the 2000 Final EIS, this EIS will specifically rely on relevant information that has been developed over the last several years since the 2009 Supplemental EIS was proposed.

The EIS for the VBTES will be prepared in accordance with the National Environmental Policy Act (NEPA). This NOI initiates formal scoping for the EIS, invites interested parties to participate in the process, provides information about the purpose and need for the study, includes the alternatives being considered for evaluation in the EIS, and identifies potential environmental effects to be considered.

HRT began its VBTES public involvement process in 2009. It held frequent public meetings in 2010, 2012, and 2013, and continues to receive public comments on the study today. HRT plans additional public meetings for September 2013 and November 2013. These continued opportunities for public involvement in the VBTES means no formal public scoping meetings are planned to be held for this EIS.

In 2009 and 2013, HRT, in coordination with FTA, contacted interested party agencies for the VBTES. As such, agencies that have previously responded to invitations to engage in the VBTES process will remain as interested parties on the study and are not required to formally respond to this notice.

DATES: Written comments on the scope of reasonable alternatives and impacts to be considered in the EIS must be sent to HRT as indicated below. Written comments must be received no later than September 13, 2013.

ADDRESSES: Written comments should be sent to Ms. Marie Arnt, Public Outreach Coordinator, Hampton Roads Transit, 509 E. 18th Street, Norfolk, VA 23504, by email to marnt@hrtransit.org, or through HRT's Web site at www.gohrt.com/about/development/vbtes.

FOR FURTHER INFORMATION CONTACT: Mr. Ryan Long, FTA Community Planner, phone: (215) 656-7051.

SUPPLEMENTARY INFORMATION:

The Proposed Project: HRT is proposing to extend transit service from the eastern terminus of Norfolk's existing LRT system, “The Tide,” at Newtown Road to the Virginia Beach Oceanfront. The service extension will operate as a fixed guideway transit system within the primary east-west transportation corridor in the City of Virginia Beach, Virginia. A fixed guideway transit system operates on a separate right-of-way that is exclusive for transit or other high-occupancy vehicles. The VBTES will evaluate alternatives for this service extension, including LRT and Bus Rapid Transit (BRT). The final alignment, number of stations and their locations, and specific eastern and western termini will be determined through the EIS process.

HRT is intending to seek Capital Investment Grant (CIG) program funding from FTA for one or more of the alternatives that will be examined in the EIS. The CIG program, more commonly known as the New Starts, Small Starts, and Core Capacity program, involves a multi-year, multi-step process that project sponsors must complete before a project is eligible for funding. The steps in the process and the basic requirements of the program can be found on FTA's Web site at www.fta.dot.gov.

Purposes of and Need for the Project: The purpose of the VBTES is to provide an efficient, integrated, and multimodal system of public transit that:

• Provides an efficient transportation option independent of traffic congestion;

• Supports a dynamic local and regional economy by responding to existing and future travel needs;

• Maintains or enhances livable communities within the project study corridor; and

• Complements planned local growth initiatives and strategies.

The City of Virginia Beach and the region need VBTES to improve personal mobility and to reduce traffic congestion in ways that are safe and reliable and that support future planned growth. Four decades of significant growth in population, employment, and tourism in the City of Virginia Beach has led to increased traffic and congestion on existing roadways serving the study area. Daily and commute trips by motorists and transit users have grown longer resulting in congestion and delays in both morning and evening peak periods in the primary east-west transportation corridor through the City of Virginia Beach. This corridor is defined by I-264, Virginia Beach Boulevard, Laskin Road, and the former NSRR ROW.

The area within the corridor is largely developed. There are limited transit opportunities with the existing bus system which shares these congested roadways. In addition, the Virginia Beach Oceanfront resort area is a primary vacation destination for the entire Commonwealth of Virginia and the mid-Atlantic region. Non-work trips to access the Virginia Beach Oceanfront area during the period of May through September lead to increased congestion and travel delays for visitors as well as for residents making work and non-work trips. These recreational trips originate from both within and outside the region.

Numerous transportation system planning studies have been completed for the Hampton Roads Region and the City of Virginia Beach that have examined the feasibility of providing additional transit service in the east-west corridor. These studies were conducted with full public participation. Each study identified the need to provide an efficient, safe, economical, and balanced transportation system (with auto, transit, and non-motorized modes of travel) that would minimize the impact to the environment and would complement the community's development patterns. Development of a fixed-guideway transit system through Virginia Beach's east-west corridor is discussed in the following studies:

HRT/Hampton Roads Regional Planning District Commission Plans:

• HRTPO Hampton Roads 2034 Long Range Transportation Plan (2012)

• Hampton Roads Regional Transit Vision Plan (2011)

• HRPDC Hampton Roads 2030 Long Range Transportation Plan (2006)

• Norfolk to Virginia Beach Light Rail Transit Final EIS (2000)

• Virginia Beach Corridor Major Investment Study (1995)

• The Rail Systems Analysis and Fixed Guideway Service Plan (1991)

• Planning for Restoration of Rail Passenger Service (1988)

• Study of the Cost Effectiveness of Restoring Rail Passenger Service (1986)

City of Virginia Beach Plans:

• Hilltop Strategic Growth Area (SGA) Master Plan (2012)

• Lynnhaven SGA Master Plan (2012)

• Rosemont SGA Master Plan (2011)

• Newtown SGA Master Plan (2010)

• Pembroke SGA Implementation Plan (2009)

• Virginia Beach Comprehensive Plan (2009)

• Virginia Beach Oceanfront Resort Area Plan (2005)

• Virginia Beach Central Business District Final Master Plan (1991)

The HRT/Hampton Roads Regional Planning District Commission long-range plans are available for review at the HRT Web site (www.gohrt.com) and the Hampton Roads Planning District Commission Web site (www.hrpdc.org). The City of Virginia Beach's plans are available on its Web site (www.vbgov.com).

Alternatives: The EIS will consider build and no-build alternatives to determine which would best serve the study area. The EIS will also include descriptions of alternatives considered for evaluation but which were determined not to be reasonable and therefore will not be carried forward for evaluation in detail in the EIS. The build alternatives being carried into the EIS will include LRT and BRT technologies.

In the VBTES, the fixed guideway alignment options for the build alternative(s) are:

• Newtown Road to the Rosemont area;

• Newtown Road to the Oceanfront along the former NSRR ROW; and

• Newtown Road to the Oceanfront partially along Laskin and Birdneck Roads.

The implementation of a fixed guideway alternative would require the location and construction of stations and park-and-ride facilities and may require a vehicle storage and maintenance facility. Stations would be located at intervals that provide service to key activity centers in the study corridor. The EIS will consider reasonable and feasible alternative locations and configurations identified for each of these facilities during the study process.

The EIS will collect and assess information for each alternative in order to evaluate and compare potential benefits and impacts. This will include such information as:

• Station locations;

• Ridership Forecasts;

• Construction and Operation Costs (including utility relocations);

• Impacts to natural resources (including wetlands, protected species, air quality); and

• Impacts to the community and historic resources (including traffic, noise, businesses, residences, community resources).

No Build Alternative: The No-Build Alternative serves as the NEPA baseline against which environmental effects of other alternatives, including the proposed project once one is identified, will be measured. The No-Build Alternative will include roadway and transit facility and service improvements (other than the Build Alternatives) planned, programmed and included in the Financially Constrained Regional Transportation Plan to be implemented by the Year 2040. The No Build Alternative will include minor transit service expansions and/or adjustments that reflect a continuation of existing service policies as identified by HRT.

Probable Effects/Potential Impacts for Analysis: HRT anticipates the VBTES will result in a preferred build alternative with beneficial travel and economic development effects but may have some adverse environmental effects. The proposed build alternative would result in travel time savings for existing transit patrons and gain new transit users who switch from automobiles, while offering a broader range of transportation options for Virginia Beach and the region. It will also support economic development and land use goals of the City of Virginia Beach as identified in its Comprehensive Plan and Strategic Growth Area plans. The proposed build alternative would also contribute to goals of reducing growth in vehicle miles traveled and emissions, including greenhouse gases.

The purpose of the EIS is to explore in a public setting the effects of the proposed project and its alternatives on the human and natural environment. FTA and HRT will evaluate the potential social, economic, and environmental impacts of the construction and operation of the proposed project. Impact areas to be addressed include: transportation; land use, zoning, and economic development; secondary development; land acquisition, visual impacts, displacements and relocations; cultural resources, including impacts on historical and archaeological resources and parklands/recreation areas; neighborhood compatibility and environmental justice; natural resource impacts including air quality, wetlands, and water resources; noise and vibration; energy use; safety and security; and wildlife and ecosystems, including endangered species. Reasonable measures to avoid, minimize, and mitigate adverse impacts will be identified and evaluated.

Potential impacts are likely to be limited primarily to social and economic impacts associated with development of a fixed guideway transit project. These impacts include enhanced development opportunities and changes in zoning and local plans related to station area development. Such changes will be coordinated with the City of Virginia Beach's comprehensive plan and Strategic Growth Area plans. Property acquisition and displacement may occur because of the development of park-and-ride facilities, alignments utilizing city street rights-of-way, and/or placement of traction power substations (if needed). Minimal, primarily short-term (e.g., construction), impacts may occur to wetlands and/or surface waters. Construction impacts may disrupt travel and access to businesses and/or residences on a short term basis.

Role of Agencies and the Public: NEPA, and FTA's regulations implementing NEPA, calls for public involvement in the EIS process. FTA and HRT will continue to provide a substantial level of public involvement throughout the EIS process, including open house meetings, newsletters, and outreach to city civic leagues and businesses. However, no formal public meetings are planned for the scoping period associated with this NOI due to the extensive previous public meetings hosted by HRT. Specifically related to public and agency involvement, FTA and HRT will (1) extend an invitation to other Federal and non-Federal agencies and Indian tribes that may have an interest in the proposed project to become “participating agencies”; (2) provide an opportunity for involvement by participating agencies and the public in helping to define the purpose and need for a proposed project, as well as the range of alternatives for consideration in the EIS; and (3) establish a plan for coordinating public and agency participation in, and comment on, the environmental review process.

A comprehensive public involvement program has been developed for the VBTES and is posted on the project Web site at www.gohrt.com. The public involvement program includes a full range of involvement activities including the project Web site; outreach to local officials, community and civic groups, and the public; and development and distribution of project newsletters. Specific mechanisms for involvement are detailed in the public involvement program.

The public and participating agencies are invited to consider and comment on this preliminary statement of the purpose and need for the proposed Virginia Beach alternatives. Suggestions for modifications to the statement of purpose and need for the proposed project are welcome and will be given serious consideration. Comments on potential environmental impacts that may be associated with the proposed alternatives are also welcome. There will be additional opportunities to participate in the study process at future public meetings.

FTA and HRT will comply with all applicable Federal environmental laws, regulations, and executive orders during the environmental review process. These requirements include, but are not limited to, the regulations of the Council on Environmental Quality implementing NEPA (40 CFR parts 1500-1508) and FTA's own NEPA regulations (23 CFR part 771); the air quality conformity regulations of the U.S. Environmental Protection Agency (EPA) (40 CFR part 93); the Section 404(b)(1) guidelines of EPA (40 CFR part 230); the regulations implementing Section 106 of the National Historic Preservation Act (36 CFR part 800); the regulations implementing Section 7 of the Endangered Species Act (50 CFR part 402); Section 4(f) of the Department of Transportation Act (23 CFR part 774); Executive Order 12898 on Environmental Justice, 11988 on floodplain management, and 11990 on wetlands; and DOT Order 5610.2(a) on Environmental Justice.

Paperwork Reduction: The Paperwork Reduction Act seeks, in part, to minimize the cost to the taxpayer of the creation, collection, maintenance, use, dissemination, and disposition of information. Consistent with this goal and with principles of economy and efficiency in government, it is FTA policy to limit insofar as possible distribution of complete printed sets of NEPA documents. Accordingly, unless a specific request for a complete printed set of the NEPA document is received before the document is printed, FTA and HRT will distribute only electronic copies of the NEPA document. A complete printed set of the environmental document will be available for review at HRT's offices; an electronic copy of the complete environmental document will be available on the HRT's Web site (www.gohrt.com).

Brigid Hynes-Cherin,
Regional Administrator.

[FR Doc. 2013-19623 Filed 8-13-13; 8:45 am]

BILLING CODE P